INTERNATIONAL TRADE COMMISSION

[Investigation No. 337-TA-1050]

Certain Dental Ceramics, Products Therefore, and Methods of Making the Same; Notice of Correction Concerning Institution of Investigation; Correction

AGENCY: U.S. International Trade Commission.

ACTION: Correction of notice.

SUMMARY: Correction is made to the April 19, 2017, Notice of Institution of Investigation, which was published on April 25, 2017 (82 FR 19081). The Notice incorrectly states under the section Scope of Investigation after subparagraph (4) that “The Office of Unfair Import Investigations will not participate as a party in this investigation.” The Office of Unfair Import Investigations will participate as a party in this investigation.

Issued: April 25, 2017.
Lisa R. Barton,
Secretary to the Commission.

[FR Doc. 2017-08679 Filed 4-28-17; 8:45 am]

BILLING CODE 7020-02-P